DEPARTMENT OF HOMELAND SECURITY

Coast Guard

33 CFR Part 100

[CGD13-05-004]

RIN 1625-AA08

Special Local Regulations; National Maritime Week Tugboat Races, Seattle, WA

AGENCY: Coast Guard, DHS.

ACTION: Final rule.

SUMMARY: The Coast Guard is permanently amending the special local regulation governing general navigation and anchorage in the vicinity of the Annual National Maritime Week Tugboat Races, Seattle, Washington. Changes made to this regulation will clarify its annual enforcement date. This change is intended to better inform the boating public and to improve the level of safety at this event. Entry into the area established is prohibited unless authorized by the Captain of the Port.

DATES: This rule is effective May 6, 2005.

ADDRESSES: Comments and material received from the public, as well as documents indicated in this preamble as being available in the docket, are part of docket [CGD13-05-004] and are available for inspection or copying at Marine Safety Office Puget Sound, 1519 Alaskan Way South, Seattle, Washington 98134 between 8 a.m. and 4 p.m., Monday through Friday, except Federal holidays.

FOR FURTHER INFORMATION CONTACT: LTJG J. L. Hagen, c/o Captain of the Port Puget Sound, 1519 Alaskan Way South, Seattle, WA 98134, (206) 217-6002 or (800) 688-6664.

SUPPLEMENTARY INFORMATION:

Regulatory Information

On March 29, 2005, we published a notice of proposed rulemaking (NPRM) entitled “Special Local Regulations; National Maritime Week Tugboat Races, Seattle, WA” in the Federal Register (70 FR 15786). We received no letters commenting on the proposed rule. No public meeting was requested, and none was held.

Under 5 U.S.C. 553(d)(3), the Coast Guard finds that good cause exists for making this rule effective less than 30 days after publication in the Federal Register. Only the enforcement dates currently published in 33 CFR 100.1306 will be changed by this modification. Due to calendar cycles, the event may fall on the second or third Saturday in May. This modification will correct the error to allow for the regulated area to be enforced when the event occurs. In 2005, the event falls on the second Saturday in May which is a period less than 30 days from the date this final rule will be published. It is in the public interest that this special local regulation be enforced on the date of the event to protect the safety of event participants and spectators.

Background and Purpose

Each year in May, the Annual National Maritime Week Tugboat Races, are held on the waters of Puget Sound in Elliott Bay near Seattle, Washington. Special local regulations in 33 CFR 100.1306 are enforced each year during the event to provide for public safety by controlling the movement of spectators and participants in the area of the race course.

This rule permanently amends 33 CFR 100.1306 requiring compliance with the regulation each year on either the second or third Saturday in May. Specific times of compliance will be published in the Federal Register each year as a notice of enforcement.

The remainder of the existing regulation remains unchanged.

Discussion of Comments and Changes

The Coast Guard received no comments in response to the NPRM proposing this final rule.

Discussion of Rule

The Coast Guard is permanently amending 33 CFR 100.1306—Annual National Maritime Week Tugboat Races, Seattle, Washington, to require compliance with the regulation each year in May on the second or third Saturday. The current regulation does not accurately describe the enforcement period. Due to calendar cycles, the event may fall on the second or third Saturday in May. This modification will correct the error to allow for the regulated area to be enforced for the safety of the public when the event occurs.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS). Although this rule will restrict access to the regulated area, the effect of this rule will not be significant because: (i) Vessels desiring to transit this area of Elliott Bay may do so by scheduling their trips in the early morning or evening when the restrictions on general navigation imposed by this section will not be in effect; (ii) the regulated area is limited in size; and (iii) the duration of the event is less than four hours.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule will affect the following entities, some of which may be small entities: the owners or operators of vessels intending to operate near or anchor in the vicinity of the regulated area.

This rule will not have a significant economic impact on a substantial number of small entities for the following reasons: (i) Vessels desiring to transit this area of Elliott Bay may do so by scheduling their trips in the early morning or evening when the restrictions on general navigation imposed by this section will not be in effect; (ii) the regulated area is limited in size; and (iii) the duration of the event is less than four hours. For these reasons, the Coast Guard certifies under 5 U.S.C. 605(b) that this change will not have a significant economic impact on a substantial number of small entities.

Assistance for Small Entities

Under section 213(a) of the Small Business Regulatory Enforcement Fairness Act of 1996 (Pub. L. 104-121), we offered to assist small entities in understanding the rule so that they could better evaluate its effects on them and participate in the rulemaking process. If the rule will affect your small business, organization, or governmental jurisdiction and you have questions concerning its provisions or options for compliance, please contact the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(h), of the Instruction, from further environmental documentation. Under figure 2-1, paragraph (34)(h), of the Instruction, an “Environmental Analysis Check List” and a “Categorical Exclusion Determination” are not required for this rule.

List of Subjects in 33 CFR Part 100

Marine safety, Navigation (water), Reporting and recordkeeping requirements, Waterways.

For the reasons discussed in the preamble, the Coast Guard amends 33 CFR part 100 as follows:

PART 100—SAFETY OF LIFE ON NAVIGABLE WATERS

1. The authority citation for part 100 continues to read as follows:

Authority: 33 U.S.C. 1233; Department of Homeland Security Delegation No. 0170.1.

2. In § 100.1306 revise paragraph (c) to read as follows:

§ 100.1306 National Maritime Week Tugboat Races, Seattle, WA.

* * * * *

(c) Enforcement dates. This section is enforced annually on the second or third Saturday in May from 12 p.m. to 4:30 p.m. The event will be one day only and the specific date will be published each year in the Federal Register. In 2005, this section will be enforced from 12 p.m. to 4:30 p.m. on Saturday May 14.

Dated: April 25, 2005.
J.M. Garrett,
Rear Admiral, U.S. Coast Guard, Commander, Thirteenth Coast Guard District.

[FR Doc. 05-9078 Filed 5-5-05; 8:45 am]

BILLING CODE 4910-15-P